DEPARTMENT OF HOMELAND SECURITY

Transportation Security Administration

[Docket No. TSA-2009-0018]

Intent To Request Renewal From OMB of One Current Public Collection of Information: Certified Cargo Screening Program

AGENCY: Transportation Security Administration, DHS.

ACTION: 60-day Notice.

SUMMARY: The Transportation Security Administration (TSA) invites public comment on one currently approved Information Collection Request (ICR), OMB control number 1652-0053, abstracted below that we will submit to the Office of Management and Budget (OMB) for renewal in compliance with the Paperwork Reduction Act. The ICR describes the nature of the information collection and its expected burden. The collections of information that make up this ICR include: (1) Applications from entities that wish to become Certified Cargo Screening Facilities (CCSFs); (2) personally identifiable information to allow TSA to conduct security threat assessments on certain individuals employed by the CCSFs; (3) standard security program or submission of a proposed modified security program or amendment to a security program; and (4) recordkeeping requirements for CCSFs. TSA is seeking the renewal of the ICR for the continuation of the program in order to secure passenger aircraft carrying cargo.

DATES: Send your comments by January 29, 2016.

ADDRESSES: Comments may be emailed to TSAPRA@dhs.gov or delivered to the TSA PRA Officer, Office of Information Technology (OIT), TSA-11, Transportation Security Administration, 601 South 12th Street, Arlington, VA 20598-6011.

FOR FURTHER INFORMATION: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0053, Certified Cargo Screening Program, 49 CFR parts 1515, 1540, 1544, 1546, 1548, and 1549. Section 1602 of the Implementing Recommendations of the 9/11 Commission Act of 2007, Public Law 110-53, 121 Stat. 266, 278 (Aug. 3, 2007), required the development of a system to screen 50 percent of the cargo transported on a passenger aircraft by February 2009, and to screen 100 percent of such cargo by August 2010. In September 2009, TSA issued an interim final rule (IFR) amending 49 CFR to implement this statutory requirement. See 74 FR 47672 (Sept. 16, 2009). In August 2011, TSA issued the Air Cargo Screening final rule (Final Rule) to finalize the statutory requirement for 100 percent screening of air cargo. See 76 FR 51848 (Aug. 18, 2011). TSA received approval from OMB for the collections of information contained in the IFR and the Final Rule, and now seeks to extend this approval. Accordingly, TSA must proceed with this ICR for this program in order to continue to meet the Congressional mandate. The ICR allows TSA to collect several categories of information as explained below.

Data Collection

TSA certifies qualified facilities as Certified Cargo Screening Facilities (CCSFs). Companies seeking to become CCSFs are required to submit an application for a security program and for certification to TSA at least 90 days before the intended date of operation. All CCSF applicants submit applications and related information either electronically through email, through the online Air Cargo Document Management System, or by postal mail.

TSA regulations (49 CFR parts 1540 and 1549) require CCSFs to ensure that individuals performing screening and related functions, and those who have unescorted access to cargo, have successfully completed a security threat assessment (STA) conducted by TSA. In addition, the senior manager or representative in control of the CCSF operations, and the CCSF Security Coordinators and their alternates, must all undergo STAs. CCSFs must submit personally identifiable information on these individuals to TSA so that TSA can conduct an STA. TSA also requires CCSFs to accept and implement a standard security program provided by TSA or to submit a proposed modified security program to the designated TSA official for approval. The CCSF must also submit to an assessment of its facility by TSA. Once TSA approves the security program and determines that the applicant is qualified to be a CCSF, TSA will send the applicant a written notice of approval and certification to operate as a CCSF.

Once approved, CCSFs must maintain screening, training, and other security-related records of compliance with their security program and make them available for TSA inspectors.

The forms used for this collection of information include the CCSF Facility Profile Application (TSA Form 419B), CCSF Principal Attestation (TSA Form 419D), Security Profile (TSA Form 419E), and the Security Threat Assessment Application (TSA Form 419F).

Estimated Burden Hours

As noted above, TSA has identified several separate information collections under this ICR. Collectively, these four information collections represent an estimated average of 18,290 responses annually, for an average annual hour burden of 7125.24 hours.

1. CCSF Application. The CCSP section of the TSA Office of Security Operations estimates that it will receive 180 applications in 3 years, for an average of 60 applications annually. TSA further estimates that these applications will require an average of 3 hours each to complete, resulting in an annual hour burden of approximately 180 hours (60 × 3).

2. STA Applications. All CCSP participants subject to 49 CFR parts 1548 and 1549 will be required to have certain employees undergo security threat assessments (STAs). Approximately 6,600 STAs were purchased from TSA for CCSP participants between January and September 2015, which is about 733 STAs per month (6,600 STAs/9 months = 733.33). Thus, TSA estimates it will receive a total of 8,800 applications per year (733.33 × 12 months), or 26,400 applications in 3 years. TSA further estimates that STA applications will require approximately 15 minutes each to complete, resulting in an annual hour burden of approximately 2,200 hours (8,800 × 0.25 hours).

3. Security Programs. As discussed in section 1, CCSF Application, TSA estimates that 60 entities will apply for CCSF every year. All CCSFs are required to maintain records of compliance with TSA regulations and its security program. For a new entity to compile these records, complete the required training, and complete the security program process, TSA estimates that the annual burden is 40 hours. TSA estimates the annual hour burden associated with the initial application of entities requesting to be approved as CCSFs is 2,400 (60 new applicants × 40 hours).

In addition, TSA currently has 950 CCSFs that must recertify every 3 years. According to the CCSP Section of the TSA Office of Security Operations (OSO), about half of these, or 475, will renew their certification or will relocate annually. TSA estimates that a renewal of the CCSF or relocation update to the CCSF will take 3 hours per entity. A site visit to approve the renewal of the CCSF will take an additional 2 hours for each entity. TSA estimates that a site visit takes place for approximately 20 percent of renewals, or 95 entities (475 × .20). Thus, TSA estimates that the annual hour burden associated with the renewal applications of existing CCSFs is 1,615 (475 renewals × 3 hours + 95 site visits × 2 hours).

4. Recordkeeping Requirements. TSA estimates a time burden of approximately five minutes (0.083 hours) annually per employee who is required to have an STA for each CCSF to prepare and file the training records and other records of compliance. TSA estimates it will receive a total of 26,400 STA applications in 3 years, for an average of 8,800 STA applications annually. TSA estimates an annual hour burden of approximately 730.4 hours (8,800 STA applicants × 0.083 hours).

Dated: November 23, 2015.
Joanna Johnson,
TSA Paperwork Reduction Act Officer, Office of Information Technology.

[FR Doc. 2015-30261 Filed 11-27-15; 8:45 am]

BILLING CODE 9110-05-P